DEPARTMENT OF ENERGY

Federal Energy Regulatory Commission

[Docket No. IS08-405-000]

Dixie Pipeline Company; Notice Cancelling Technical Conference

December 15, 2008.

On December 12, 2008, Dixie Pipeline Company (Dixie) filed a Notice of Withdrawal of Dixie Tariffs FERC No. 92 and FERC No. 93, effective as of that date. Withdrawal of the tariffs serves to terminate this proceeding and eliminates the need for the technical conference scheduled for Tuesday, December 16, 2008.

Take notice that the Commission cancels the technical conference in this proceeding scheduled for Tuesday, December 16, 2008, at 9 a.m. (EST) at the offices of the Federal Energy Regulatory Commission, 888 First Street NE., Washington, DC 20426.

For further information, please contact Jenifer Lucas at (202) 502-8362 or Jenifer.Lucas@ferc.gov.

Kimberly D. Bose,
Secretary.

[FR Doc. E8-30223 Filed 12-18-08; 8:45 am]

BILLING CODE 6717-01-P